DEPARTMENT OF COMMERCE

National Oceanic and Atmospheric Administration

[I.D. 011105H]

Endangered Species; Permit No. 1299

AGENCY: National Marine Fisheries Service (NMFS), National Oceanic and Atmospheric Administration (NOAA), Commerce.

ACTION: Scientific research permit modification.

SUMMARY: Notice is hereby given that a request for modification of scientific research Permit No. 1299 submitted by Raymond R. Carthy has been granted.

ADDRESSES: The modification and related documents are available for review upon written request or by appointment in the following office(s):

Permits, Conservation and Education Division, Office of Protected Resources, NMFS, 1315 East-West Highway, Room 13705, Silver Spring, MD 20910; phone (301)713-2289, fax (301)427-2521; and

Southeast Region, NMFS, 9721 Executive Center Drive North, St. Petersburg, FL 33702-2432; phone (727)570-5301; fax (727)570-5320.

FOR FURTHER INFORMATION CONTACT: Patrick Opay or Ruth Johnson, (301)713-2289.

SUPPLEMENTARY INFORMATION: The requested amendment has been granted under the authority of the Endangered Species Act of 1973, as amended (ESA; 16 U.S.C. 1531 et seq.) and the provisions of 50 CFR 222.306 of the regulations governing the taking, importing, and exporting of endangered and threatened fish and wildlife (50 CFR 222-226).

The modification extends the expiration date of the Permit from December 31, 2004, to December 31, 2005, for takes of green (Chelonia mydas), loggerhead (Caretta caretta), and Kemp's ridley (Lepidochelys kempii) sea turtles. The permit allows Dr. Carthy to conduct sea turtle research in the Gulf of Mexico waters of northwestern Florida. The purpose of the research is to (1) study the use of coastal waters by both juvenile and adult loggerhead, green, and Kemp's ridley sea turtles along the St. Joseph Peninsula, St. Joseph Bay, Florida; (2) examine the inter-nesting movements and habitat usage of adult loggerhead turtles along the northwestern coast of Florida; (3) examine the species composition, population densities and habitat utilization in coastal bays in the same area by juvenile sea turtles; and (4) track gross movements and seasonal migrations of the three species of juvenile sea turtles initially captured in the study area utilizing satellite telemetry.

Issuance of this modification, as required by the ESA was based on a finding that such permit: (1) was applied for in good faith; (2) will not operate to the disadvantage of the threatened and endangered species which are the subject of this permit; and (3) is consistent with the purposes and policies set forth in section 2 of the ESA.

Dated: January 13, 2005.
Amy C. Sloan,
Acting Chief, Permits, Conservation and Education Division, Office of Protected Resources, National Marine Fisheries Service.

[FR Doc. 05-1245 Filed 1-21-05; 8:45 am]

BILLING CODE 3510-22-S